DEPARTMENT OF VETERANS AFFAIRS

Veterans and Community Oversight and Engagement Board, Notice of Meeting, Amended

The Department of Veterans Affairs (VA) gives notice under the Federal Advisory Committee Act (FACA), 5 U.S.C. ch. 10, that the Veterans and Community Oversight and Engagement Board (Board) will meet on January 31-February 1, 2024, at the VA Greater Los Angeles Healthcare System (VAGLAHS), 11301 Wilshire Boulevard, Building 500, Room 1281, Los Angeles, CA. The meeting sessions will begin and end as follows:

Date(s) | Time(s) | Location(s) | Open session
January 31, 2024 | 8:30 a.m. to 12 p.m.—Pacific Daylight Time (PDT) | VAGLAHS Facility/WEBEX link and call-in information below | Yes.
January 31, 2024 | 12 p.m. to 5 p.m.—(PDT) | VAGLAHS Facility | No.
February 1, 2024 | 8:30 a.m. to 3 p.m.—PDT | VAGLAHS Facility/WEBEX link and call-in information below | Yes.

The meetings are open to the public and will be recorded. Sessions are open to the public, except during the time the Board is conducting tours of VA facilities. Tours of VA facilities are closed, to protect Veterans' privacy and personal information, in accordance with 5 U.S.C 552b(c)(6).

The Board was established by the West Los Angeles Leasing Act of 2016 on September 29, 2016. The purpose of the Board is to provide advice and make recommendations to the Secretary of Veterans Affairs on identifying the goals of the community and Veteran partnership; improving services and outcomes for Veterans, members of the Armed Forces, and the families of such Veterans and members; and on the implementation of the Draft Master Plan approved by VA Secretary on January 28, 2016, and on the creation and implementation of any successor master plans.

On Wednesday, January 31, 2024, from 8:30 a.m. to 12 p.m. PDT, the Board will meet in open session with key staff of VAGLAHS. The Advisory Committee Management Office will present, FACA 101 training. The agenda will include opening remarks from the Committee Chair, Executive Sponsor, and other VA officials. There will be a general update from the Director of VAGLAHS. The Designated Federal Officer will provide an update on the status of recommendation packages. The Board will receive an overview of matters associated with the new Hospital Construction from Office of Construction and Facilities Management. From 12:30 p.m. to 5 p.m. PDT, the Board will convene with a closed tour of VAGLAHS. Tours of VA facilities are closed to protect Veterans' privacy and personal information, in accordance with 5U.S.C 552b(c)(6).

On Thursday February 1, 2024, the Board will reconvene in open session from 8:30 a.m. to 3 p.m. PDT, at the VAGLAHS facility. The Office of Asset Enterprise Management will provide a comprehensive presentation on the Principal Developer's contractual relationships, terms, conditions, and commitments for permanent supportive housing to include any negotiations regarding Town Center development construction. The Office of General Counsel, Real Property Group will provide an overview of policies that govern the rights to public access on VA medical and residential facilities.

Time will be allocated for receiving public comments on February 1, at 1:45 p.m. PDT. Individuals wishing to make public comments should contact Chihung Szeto at (562) 708-9959 or at Chihung.Szeto@va.gov and are requested to submit a 1-2-page summary of their comments for inclusion in the official meeting record. Only those members of the public (first 12 public comment registrants) who have confirmed registrations to provide public comment will be allowed to provide public comment. In the interest of time, each speaker will be held to 5-minute time limit. The Committee will accept written comments from interested parties on issues outlined in the meeting agenda, from February 2 through February 9, 2024. Members of the public not able to attend in person can attend the meeting via WEBEX by joining from the meeting link below. The link will be active from 8 a.m. to 12 p.m. PDT on January 31, 2024, and from 8 a.m. to 2:30 p.m. PDT on February 1, 2024.

Day 1

Veteran Community Oversight and Engagement Board (VCOEB) Meeting (January 31-February 1, 2024)

Hosted by Walsh, Margaret K. (ERPI)

https://veteransaffairs.webex.com/veteransaffairs/j.php?MTID=m58910f86b693a33153cc01165f45e6c2

Wednesday, January 31, 2024 8 a.m. | 4 hours | (UTC-05) Pacific Time (US & Canada)

Meeting number: 2761 648 5320

Password: CvkBYhd*482

Agenda: TBD

Join by video system

Dial 27616485320@veteransaffairs.webex.com

You can also dial 207.182.190.20 and enter your meeting number.

Join by phone

14043971596 USA Toll Number

Access code: 276 164 85320

Day 2

Veteran Community Oversight and Engagement Board (VCOEB) Meeting (January 31-February 1, 2024)

Hosted by Walsh, Margaret K. (ERPI)

https://veteransaffairs.webex.com/veteransaffairs/j.php?MTID=med643bde1cdf2d501fac1d2a5a3236d8

Thursday, February 1, 2024 8 a.m. | 9 hours | (UTC-05) Pacific Time (US & Canada)

Meeting number: 2760 511 3108

Password: GpDAyH24k*5

Agenda: TBD

Join by video system

Dial 27605113108@veteransaffairs.webex.com

You can also dial 207.182.190.20 and enter your meeting number.

Join by phone

14043971596 USA Toll Number

Access code: 276 051 13108

Any member of the public seeking additional information should contact Mr. Eugene W. Skinner Jr. at (202) 631-7645 or at Eugene.Skinner@va.gov.

Dated: December 21, 2023.
Jelessa M. Burney,
Federal Advisory Committee Management Officer.

[FR Doc. 2023-28546 Filed 12-26-23; 8:45 am]

BILLING CODE 8320-01-P